DEPARTMENT OF JUSTICE

Notice of Lodging of Proposed Consent Decree Under the Comprehensive Environmental Response, Compensation, and Liability Act

On January 10, 2017, the Department of Justice lodged a proposed Consent Decree with the United States District Court for the Western District of Wisconsin in the lawsuit entitled United States and the State of Wisconsin v. Northern States Power Co., Civil Action No. 17-cv-16.

In this action, the United States and the State of Wisconsin brought claims against Northern States Power Co. (“Defendant”) for response costs and injunctive relief associated with the release and threatened release of hazardous substances from facilities at and near the Ashland/Northern States Power Lakefront Superfund Site in northwestern Wisconsin (hereinafter the “Site”), pursuant to the Comprehensive Environmental Response, Compensation, and Liability Act, 42 U.S.C. 9601 et seq. (“CERCLA”). The proposed Consent Decree requires Defendant to perform the Chequamegon Bay portion of the Site cleanup at a cost of approximately $42 million. The Consent Decree also requires Defendant to pay $1 million of EPA's past response costs incurred at the Site and all EPA's future response costs. In addition, Defendant will be eligible for reimbursements totaling up to $4.5 million as it performs the work, drawing from a Site-specific special account funded by a prior settlement with other responsible parties. In return, the United States and the State agree not to sue Defendant under sections 106 and 107 of CERCLA or under section 7003 of the Resource Conservation and Recovery Act (“RCRA”). Pursuant to a prior consent decree, Defendant is also performing the on-land portion of the Site work. That consent decree was approved by the Court in the case named United States and the State of Wisconsin v. Northern States Power Co., Civ. Action No. 12-cv-00565-bbc. If successfully completed, work under the two consent decrees will complete the cleanup at the Site.

The publication of this notice opens a period for public comment on the Consent Decree. Comments should be addressed to the Assistant Attorney General, Environment and Natural Resources Division, and should refer to United States and the State of Wisconsin v. Northern States Power Co., D.J. Ref. No. 90-11-2-08879/5. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area. The United States and the State of Wisconsin have scheduled a public meeting for January 26 at 6:30 p.m. at the Northern Great Lakes Visitor Center, 29270 County Highway G, Ashland, WI 54806.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $27.00 (25 cents per page reproduction cost) payable to the United States Treasury.

Randall M. Stone,
Acting Assistant Section Chief, Environmental Enforcement Section, Environment and Natural Resources Division.

[FR Doc. 2017-00718 Filed 1-12-17; 8:45 am]

BILLING CODE 4410-15-P